DEPARTMENT OF THE INTERIOR

Fish and Wildlife Service

[80221-1113-0000-C4]

Endangered and Threatened Wildlife and Plants; Initiation of 5-Year Reviews of 58 Species in California, Nevada, Arizona, and Utah; Availability of Completed 5-Year Reviews in California and Nevada

AGENCY: Fish and Wildlife Service, Interior.

ACTION: Notice of initiation of 5-year reviews; availability of completed 5-year reviews.

SUMMARY: We, the U.S. Fish and Wildlife Service, initiate 5-year reviews for 58 species under the Endangered Species Act of 1973, as amended (Act). We request any new information on these species that may have a bearing on their classification as endangered or threatened (see Table 1 below). Based on the results of these 5-year reviews, we will make a finding on whether these species are properly classified under the Act. We also indicate in this notice 42 5-year reviews we completed for species in California and Nevada in mid to late Fiscal Year (FY) 2008. Reviews we completed for 16 species in early FY 2008 were indicated in our previous initiation notice published in the Federal Register on March 5, 2008 (73 FR 11945).

DATES: To allow us adequate time to conduct these reviews, we must receive your information no later than May 26, 2009. However, we will continue to accept new information about any listed species at any time.

ADDRESSES: For instructions on how to submit information and review the information that we receive on these species, see “Public Solicitation of New Information.”

FOR FURTHER INFORMATION CONTACT: For species-specific information, contact the appropriate person listed under “Public Solicitation of New Information.” For contact information about completed 5-year reviews, see “Completed 5-Year Reviews.” Individuals who are hearing-impaired or speech-impaired may call the Federal Relay Service at (800) 877-8337 for TTY assistance.

SUPPLEMENTARY INFORMATION:

Why Do We Conduct a 5-Year Review

Under the Endangered Species Act (Act) (16 U.S.C. 1531 et seq.), we maintain a List of Endangered and Threatened Wildlife and Plants at 50 CFR 17.11 (for animals) and 17.12 (for plants) (List). We amend the List by publishing final rules in the Federal Register. Section 4(c)(2)(A) of the Act requires that we conduct a review of listed species at least once every 5 years. Section 4(c)(2)(B) requires that we determine (1) whether a species no longer meets the definition of threatened or endangered and should be removed from the List (delisted); (2) whether a species listed as endangered more properly meets the definition of threatened and should be reclassified to threatened; or (3) whether a species listed as threatened more properly meets the definition of endangered and should be reclassified to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process. We are requesting submission of any new information (best scientific and commercial data) on these species since they were originally listed or since the species' most recent status review.

Our regulations at 50 CFR 424.21 require that we publish a notice in the Federal Register announcing those species currently under review. This notice announces initiation of our active review of 58 species in California, Nevada, Arizona, and Utah. This notice announces initiation of our active review of the species in Table 1.

Table 1—Summary of Listing Information, 11 Wildlife Species and 47 Plant Species in California, Nevada, Arizona, and Utah
Common name | Scientific name | Status | Where listed | Final listing rule
Animals
Alameda whipsnake (=striped racer) | Masticophis lateralis euryxanthus | Threatened | U.S.A. (CA) | 62 FR 64306; 12/05/1997
Ash Meadows speckled dace | Rhinichthys osculus navadensis | Endangered | U.S.A. (NV) | 47 FR 19995; 05/10/1982
California condor | Gymnogyps californianus | Endangered | U.S.A. only, except where listed as an experimental population below | 32 FR 4001; 03/11/1967
|  | Experimental Population, Non-Essential | U.S.A. (specific portions of Arizona, Nevada, and Utah) | 61 FR 54044; 10/16/1996
Delta smelt | Hypomesus transpacificus | Threatened | U.S.A. (CA) | 58 FR 12854; 03/05/1993
Devils Hole pupfish | Cyprinodon diabolis | Endangered | U.S.A. (NV) | 32 FR 4001; 03/11/1967
Moapa dace | Moapa coriacea | Endangered | U.S.A. (NV) | 32 FR 4001; 03/11/1967
Ohlone tiger beetle | Cicindela ohlone | Endangered | U.S.A. (CA) | 66 FR 50340; 10/03/2001
Peninsular bighorn sheep | Ovis Canadensis | Endangered | U.S.A. (CA), Peninsular Ranges | 63 FR 13134; 03/18/1998
Santa Ana sucker | Catostomus santaanae | Threatened | U.S.A. (CA), Los Angeles River basin, San Gabriel River basin, Santa Ana River basin | 65 FR 19686; 04/12/2000
Southern sea otter | Enhydra lutris nereis | Threatened | U.S.A. (CA) | 42 FR 2968; 01/14/1977
Warm Springs pupfish | Cyprinodon nevadensis pectoralis | Endangered | U.S.A. (NV) | 35 FR 16047; 10/13/1970
Plants
Ash Meadows blazing star | Mentzelia leucophylla | Threatened | U.S.A. (NV) | 50 FR 20777; 05/20/1985
Ash Meadows ivesia | Ivesia kingii var. eremica | Threatened | U.S.A. (NV) | 50 FR 20777; 05/20/1985
Big-leaved crownbeard | Verbesina dissita | Threatened | U.S.A. (CA), Mexico | 61 FR 52370; 10/07/1996
California Orcutt grass | Orcuttia californica | Endangered | U.S.A. (CA) | 58 FR 41384; 08/03/1993
California seablite | Suaeda californica | Endangered | U.S.A. (CA) | 59 FR 64613; 12/15/1994
Coyote ceanothus | Ceanothus ferrisae | Endangered | U.S.A. (CA) | 60 FR 6671; 02/03/1995
Del Mar manzanita | Arctostaphylos glandulosa subsp. crassifolia | Endangered | U.S.A. (CA), Mexico | 61 FR 52370; 10/07/1996
El Dorado bedstraw | Galium californicum subsp. sierrae | Endangered | U.S.A. (CA) | 61 FR 54358; 10/18/1996
Encinitas baccharis | Baccharis vanessae | Threatened | U.S.A. (CA) | 61 FR 52370; 10/07/1996
Fountain thistle | Cirsium fontinale var. fontinale | Endangered | U.S.A. (CA) | 60 FR 6671; 02/03/1995
Gambel's watercress | Nasturtium gambelii | Endangered | U.S.A. (CA) | 58 FR 41378; 08/03/1993
Hoffman's slender-flowered gilia | Gila tenuiflora subsp. hoffmannii | Endangered | U.S.A. (CA) | 61 FR 40954; 07/31/1997
Island bedstraw | Galium buxifolium | Endangered | U.S.A. (CA) | 61 FR 40954; 07/31/1997
Island rush-rose | Helianthemum greeneii | Threatened | U.S.A. (CA) | 61 FR 40954; 07/31/1997
Laguna Beach liveforever | Dudleya stolonifera | Threatened | U.S.A. (CA) | 63 FR 54938; 10/13/1998
Layne's butterweed | Senecio layneae | Threatened | U.S.A. (CA) | 61 FR 54358; 10/18/1996
Marin dwarf-flax | Hesperolinon congestum | Threatened | U.S.A. (CA) | 60 FR 6671; 02/03/1995
McDonald's rock-cress | Arabis macdonaldiana | Endangered | U.S.A. (CA) | 43 FR 44810; 09/28/1978
Metcalf Canyon jewelflower | Streptanthus albidus subsp. albidus | Endangered | U.S.A. (CA) | 60 FR 6671; 02/03/1995
Monterey clover | Trifolium trichocalyx | Endangered | U.S.A. (CA) | 63 FR 43100; 08/12/1998
Nipomo Mesa lupine | Lupinus nipomensis | Endangered | U.S.A. (CA) | 65 FR 14888; 03/20/2000
Otay mesa-mint | Pogogyne nudiuscula | Endangered | U.S.A. (CA), Mexico | 58 FR 41384; 08/03/1993
Pallid manzanita | Arctostaphylos pallida | Threatened | U.S.A. (CA) | 63 FR 19842; 04/22/1998
Pedate checkermallow | Sidalcea pedata | Endangered | U.S.A. (CA) | 49 FR 34497; 08/31/1984
Pennell's bird's-beak | Cordylanthus tenuis subsp. capillaris | Endangered | U.S.A. (CA) | 60 FR 6671; 02/03/1995
Pine Hill ceanothus | Ceanothus roderickii | Endangered | U.S.A. (CA) | 61 FR 54358; 10/18/1996
Pine Hill flannelbush | Fremontodendron californicum subsp. decumbens | Endangered | U.S.A. (CA) | 61 FR 54358; 10/18/1996
Presidio clarkia | Clarkia franciscana | Endangered | U.S.A. (CA) | 60 FR 6671; 02/03/1995
Robust spineflower | Chorizanthe robusta var. robusta | Endangered | U.S.A. (CA) | 59 FR 5499; 02/04/1994
San Diego ambrosia | Ambrosia pumila | Endangered | U.S.A. (CA), Mexico | 67 FR 44372; 07/02/2002
San Diego button-celery | Eryngium aristulatum var. parishii | Endangered | U.S.A. (CA) | 58 FR 41384; 08/03/1993
San Diego mesa-mint | Pogogyne abramsii | Endangered | U.S.A. (CA) | 43 FR 44810; 09/28/78
San Mateo thornmint | Acanthomintha obovata subsp. duttonii | Endangered | U.S.A.(CA) | 50 FR 37858; 09/18/1985
San Mateo woolly sunflower | Eriophyllum latilobum | Endangered | U.S.A.(CA) | 60 FR 6671; 02/03/1995
Santa Ana River woolly-star | Eriastrum densifolium subsp. sanctorum | Endangered | U.S.A. (CA) | 52 FR 36265; 09/28/1987
Santa Clara Valley dudleya | Dudleya setchellii | Endangered | U.S.A.(CA) | 60 FR 6671; 02/03/1995
Santa Cruz Island dudleya | Dudleya nesiotica | Threatened | U.S.A. (CA) | 61 FR 40954; 07/31/1997
Scotts Valley polygonum | Polygonum hickmanii | Endangered | U.S.A. (CA) | 68 FR 16979; 04/08/2003
Scotts Valley spineflower | Chorizanthe robusta var. hartwegii | Endangered | U.S.A. (CA) | 59 FR 5499; 02/04/1994
Slender-petaled mustard | Thelypodium stenopetalum | Endangered | U.S.A. (CA) | 49 FR 34497; 08/31/1984
Sonoma alopecurus | Alopecurus aequalis var. sonomensis | Endangered | U.S.A.(CA) | 62 FR 54791; 10/22/1997
Sonoma spineflower | Chorizanthe valida | Endangered | U.S.A.(CA) | 57 FR 27848 06/22/1992
Stebbins' morning-glory | Calystegia stebbinsii | Endangered | U.S.A.(CA) | 61 FR 54358; 10/18/1996
Ventura marsh milk-vetch | Astragalus pycnostachyus var. lanosissimus | Endangered | U.S.A. (CA) | 66 FR 27901; 05/21/2001
Vine Hill clarkia | Clarkia imbricata | Endangered | U.S.A.(CA) | 62 FR 54791; 10/22/1997
White-rayed pentachaeta | Pentachaeta bellidiflora | Endangered | U.S.A. (CA) | 60 FR 6671; 02/03/1995
Yadon's piperia | Piperia yadonii | Endangered | U.S.A. (CA) | 63 FR 43100; 08/12/1998

What Information Do We Consider in the Review

In our 5-year review, we consider all new information available at the time of the review. In conducting these reviews, we consider the best scientific and commercial data that has become available since the current listing determination or the most recent status review, such as—(A) Species biology including, but not limited to, population trends, distribution, abundance, demographics, and genetics; (B) Habitat conditions including, but not limited to, amount, distribution, and suitability; (C) Conservation measures that have been implemented that benefit the species; (D) Threat status and trends (see the five factors under the heading “How Do We Determine Whether a Species is Endangered or Threatened?”); and (E) Other new information, data, or corrections including, but not limited to, taxonomic or nomenclatural changes, identification of erroneous information contained in the List, and improved analytical methods.

Public Solicitation of New Information

We request any new information concerning the status of these wildlife and plant species. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of these species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of, or potential updates to, recovery plans and additional actions or studies that would benefit these species in the future.

Our practice is to make information, including names and home addresses of respondents, available for public review. Before including your address, telephone number, e-mail address, or other personal identifying information in your response, you should be aware that your entire submission—including your personal identifying information—may be made publicly available at any time. While you can ask us in your response to withhold your personal identifying information from public review, we cannot guarantee that we will be able to do so. We will not consider anonymous comments. To the extent consistent with applicable law, we will make all submissions from organizations or businesses, and from individuals identifying themselves as representatives or officials of organizations or businesses, available for public inspection in their entirety. Comments and materials received will be available for public inspection, by appointment, during normal business hours at the offices where the comments are submitted.

Mail or hand-deliver information on the following species to the U.S. Fish and Wildlife Service at the corresponding address below. You may also view information we receive in response to this notice, as well as other documentation in our files, at the following locations by appointment, during normal business hours.

For the McDonald's rock-cress, send information to Field Supervisor, Attention: 5-Year Review, U.S. Fish and Wildlife Service, Arcata Fish and Wildlife Office, 1655 Heindon Road, Arcata, CA 95521. Information may also be submitted electronically at fw8arma@fws.gov. To obtain further information, contact Dave Imper at the Arcata Fish and Wildlife Office at (707) 822-7201.

For the Peninsular bighorn sheep, Santa Ana sucker, big-leaved crownbeard, California Orcutt grass, Del Mar manzanita, Encinitas baccharis, Laguna Beach liveforever, Otay mesa-mint, pedate checkermallow, San Diego ambrosia, San Diego button-celery, San Diego mesa-mint, Santa Ana River woolly-star, and slender-petaled mustard, send information to Field Supervisor, Attention: 5-Year Review, U.S. Fish and Wildlife Service, Carlsbad Fish and Wildlife Office, 6010 Hidden Valley Road, Carlsbad, CA 92011. Information may also be submitted electronically at fw8cfwocomments@fws.gov. To obtain further information, contact Scott Sobiech at the Carlsbad Fish and Wildlife Office at (760) 431-9440.

For the Alameda whipsnake (=striped racer), Delta smelt, coyote ceanothus, El Dorado bedstraw, fountain thistle, Layne's butterweed, Marin dwarf-flax, Metcalf Canyon jewelflower, pallid manzanita, Pennell's bird's-beak, Pine Hill ceanothus, Pine Hill flannelbush, Presidio clarkia, San Mateo thornmint, San Mateo woolly sunflower, Santa Clara Valley dudleya, Sonoma alopecurus, Sonoma spineflower, Stebbins' morning-glory, Vine Hill clarkia, and white-rayed pentachaeta, send information to Field Supervisor, Attention: 5-Year Review, U.S. Fish and Wildlife Service, Sacramento Fish and Wildlife Office, 2800 Cottage Way, Room W-2605, Sacramento, CA 95825. Information may also be submitted electronically at fw1sfo5year@fws.gov. To obtain further information, contact Kirsten Tarp at the Sacramento Fish and Wildlife Office at (916) 414-6600.

For the Ohlone tiger beetle, southern sea otter, California seablite, Gambel's watercress, Hoffman's slender-flowered gilia, island bedstraw, island rush-rose, Monterery clover, Nipomo Mesa lupine, robust spineflower, Santa Cruz Island dudleya, Scotts Valley polygonum, Scotts Valley spineflower, Ventura marsh milk-vetch, and Yadon's piperia, send information to Field Supervisor, Attention: 5-Year Review, U.S. Fish and Wildlife Service, Ventura Fish and Wildlife Office, 2493 Portola Road, Suite B, Ventura, CA 93003. Information may also be submitted electronically at fw1vfwo5year@fws.gov. To obtain further information on the animal species, contact Mike McCrary at the Ventura Fish and Wildlife Office at (805) 644-1766. To obtain further information on the plant species, contact Connie Rutherford at the Ventura Fish and Wildlife Office at (805) 644-1766.

For the California condor, send information to Condor Coordinator, Attention: 5-Year Review, Hopper Mountain National Wildlife Refuge Complex, U.S. Fish and Wildlife Service, 2493 Portola Road, Suite A, Ventura, CA 93003. Information may also be submitted electronically at fw1vfwo5year@fws.gov. To obtain further information, contact Jesse Grantham at the Hopper Mountain National Wildlife Refuge Complex at (805) 644-5185.

For the Ash Meadows speckled dace, Devils Hole pupfish, Moapa dace, Warm Springs pupfish, Ash Meadows blazing star, and Ash Meadows ivesia, send information to Field Supervisor, Attention: 5-Year Review, U.S. Fish and Wildlife Service, Nevada Fish and Wildlife Office, 4701 N. Torrey Pines Drive, Las Vegas, NV 89130. Information may also be submitted electronically at fw1nfwo_5yr@fws.gov. To obtain further information, contact Janet Bair at the Southern Nevada Field at (702) 515-5230.

All electronic information must be submitted in Text format or Rich Text format. Include the following identifier in the subject line of the e-mail: Information on 5-year review for [NAME OF SPECIES], and include your name and return address in the body of your message.

How Are These Species Currently Listed

The current listing status of species for which 5-year reviews are being initiated by this notice is identified in Table 1 above. The current status may also be found on the List, which covers all endangered and threatened species, and which is available on our Internet site at http://endangered.fws.gov/wildlife.html#Species.

Definitions Related to This Notice

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

Experimental population means any population (including any offspring arising solely therefrom) authorized by the Secretary of the Interior for release outside the current range of nonexperimental populations of the same species, but only when, and at such times as, the population is wholly separate geographically from nonexperimental populations of the same species. Each member of a nonessential experimental population shall be treated, except when it occurs in an area within the National Wildlife Refuge System or the National Park System, as a species proposed to be listed under section 4 of the Endangered Species Act.

How Do We Determine Whether a Species Is Endangered or Threatened

Section 4(a)(1) of the Act requires that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(b)(1)(A) of the Act requires that our determination be made on the basis of the best scientific and commercial data available.

What Could Happen as a Result of Our Review

For each species under review, if we find new information that indicates a change in classification may be warranted, we may propose a new rule that could do one of the following: (a) Reclassify the species from threatened to endangered (uplist); (b) reclassify the species from endangered to threatened (downlist); or (c) remove the species from the List (delist). If we determine that a change in classification is not warranted, then the species will remain on the List under its current status.

Completed 5-Year Reviews

We also take this opportunity to inform the public of 42 5-year reviews that we completed in mid to late FY 2008 for species in California and Nevada. These 42 reviews can be found at http://www.fws.gov/cno/es/5yr.html. Any recommended change in listing status will require a separate rulemaking process. The table below summarizes the results of these reviews:

Table 2—Summary of 42 Species in California and Nevada for Which 5-year Reviews Were Completed in Mid to Late FY 2008.
Common name | Scientific name | Recommendation | Lead fish and wildlife office | Contact
Animals
Behren's silverspot butterfly | Speyeria zerene behrensii | No status change | Arcata | Matt Baun; (530) 842-5763
Delhi Sands flower-loving fly | Rhaphiomidas terminatus abdominalis | No status change | Carlsbad | Jane Hendron; (760) 431-9440
El Segundo blue butterfly | Euphilotes battoides allyni | No status change | Carlsbad | Jane Hendron; (760) 431-9440
Independence Valley speckled dace | Rhinichthys osculus lethoporus | No status change | Nevada | Jeannie Stafford; (775) 861-6300
Inyo California towhee | Pipilo fuscus eremophilus | Delist | Ventura | Lois Grunwald; (805) 644-1766
Lange's metalmark butterfly | Apodemia mormo langei | No status change | Sacramento | Al Donner; (916) 414-6600
Paiute cutthroat trout | Oncorhynchus clarkii seleniris | No status change | Nevada | Jeannie Stafford; (775) 861-6300
Palos Verdes blue butterfly | Glaucopsyche lygdamus palosverdensis | No status change | Carlsbad | Jane Hendron; (760) 431-9440
Riverside fairy shrimp | Streptocephalus wootoni | No status change | Carlsbad | Jane Hendron; (760) 431-9440
San Diego fairy shrimp | Branchinecta sandiegonensis | No status change | Carlsbad | Jane Hendron; (760) 431-9440
Sierra Nevada bighorn sheep | Ovis canadensis californiana | No status change | Ventura | Lois Grunwald; (805) 644-1766
Plants
Antioch Dunes evening-primrose | Oenothera deltoides subsp. howellii | No status change | Sacramento | Al Donner; (916) 414-6600
Ash-grey (Indian) paintbrush | Castilleja cinerea | No status change | Carlsbad | Jane Hendron; (760) 431-9440
Bear Valley sandwort | Arenaria ursine | No status change | Carlsbad | Jane Hendron; (760) 431-9440
Ben Lomond wallflower | Erysimum teretifolium | No status change | Ventura | Lois Grunwald; (805) 644-1766
Burke's goldfields | Lasthenia burkei | No status change | Sacramento | Al Donner; (916) 414-6600
Butte County meadowfoam | Limnanthes floccosa subsp. californica | No status change | Sacramento | Al Donner; (916) 414-6600
California taraxacum | Taraxacum californicum | No status change | Carlsbad | Jane Hendron; (760) 431
Colusa grass | Neostapfia colusana | No status change | Sacramento | Al Donner; (916) 414-6600
Contra Costa goldfields | Lasthenia congugens | No status change | Sacramento | Al Donner; (916) 414-6600
Contra Costa wallflower | Erysimum capitatum var. angustatum | No status change | Sacramento | Al Donner; (916) 414-6600
Few-flowered navarretia | Navarretia leucocephala subsp. pauciflora | No status change | Sacramento | Al Donner; (916) 414-6600
Gowen cypress | Callitropsis goveniana | No status change | Ventura | Lois Grunwald; (805) 644
Island barberry | Berberis pinnata subsp. insularis | No status change | Ventura | Lois Grunwald; (805) 644
Island phacelia | Phacelia insularis var. insularis | No status change | Ventura | Lois Grunwald; (805) 644
Lane Mountain milk-vetch | Astragalus jaegerianus | Downlist | Ventura | Lois Grunwald; (805) 644
Lyon's pentachaeta | Pentachaeta lyonii | No status change | Ventura | Lois Grunwald; (805) 644
Marsh sandwort | Arenaria paludicola | No status change | Ventura | Lois Grunwald; (805) 644
Menzies' wallflower | Erysimum menziesii | No status change | Arcata | Matt Baun; (530) 842-5763
Monterey gilia | Gilia tenuiflora subsp. arenaria | No status change | Ventura | Lois Grunwald; (805) 644
Morro manzanita | Arctostaphylos morroensis | No status change | Ventura | Lois Grunwald; (805) 644
Peirson's milk-vetch | Astragalus magdalenae var. peirsonii | No status change | Carlsbad | Jane Hendron; (760) 431-9440
Purple amole | Chlorogalum purpureum | No status change | Ventura | Lois Grunwald; (805) 644-1766
Sacramento Orcutt grass | Orcuttia viscida | No status change | Sacramento | Al Donner; (916) 414-6600
San Bernardino bluegrass | Poa atropurpurea | No status change | Carlsbad | Jane Hendron; (760) 431-9440
San Clemente Island larkspur | Delphinium variegatum subsp. kinkiense | Downlist | Carlsbad | Jane Hendron; (760) 431-9440
San Jacinto Valley crownscale | Atriplex coronata var. notatior | No status change | Carlsbad | Jane Hendron; (760) 431-9440
Sebastopol meadowfoam | Limnanthes vinculans | No status change | Sacramento | Al Donner; (916) 414-6600
Sonoma sunshine | Blennosperma bakeri | No status change | Sacramento | Al Donner; (916) 414-6600
Southern mountain buckwheat | Eriogonum kennedyi var. austromontanum | No status change | Carlsbad | Jane Hendron; (760) 431
Vail Lake ceanothus | Ceanothus ophiochilus | No status change | Carlsbad | Jane Hendron; (760) 431
Willowy monardella | Monardella linoides subsp. viminea | No status change | Carlsbad | Jane Hendron; (760) 431

Authority This document is published under the authority of the Endangered Species Act of 1973, as amended (16 U.S.C. 1531 et seq. ).

Michael Fris,
Acting Regional Director, Region 8, U.S. Fish and Wildlife Service.

[FR Doc. E9-5520 Filed 3-24-09; 8:45 am]

BILLING CODE 4310-55-P